DEPARTMENT OF COMMERCE

National Oceanic and Atmospheric Administration

[I.D. 040706H]

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Scallop Advisory Panel and General Category Scallop Advisory Panel in May, 2006 to consider actions affecting New England fisheries in the exclusive economic zone (EEZ). Recommendations from these groups will be brought to the full Council for formal consideration and action, if appropriate.

DATES: These meetings will be held on Tuesday, May 2, 2006 at 8:30 a.m. and Wednesday, May 3, 2006, at 8:30 a.m.

ADDRESSES: These meetings will be held at the Hampton Inn, 2100 Post Road, Warwick, RI 02886; telephone: (401) 739-8888; fax: (401) 739-1550.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The panel's schedule and agenda for the following meetings are as follows:

Tuesday, May 2, 2006; General Category Scallop Advisory Panel Meeting.

Wednesday, May 3, 2006; Joint General Category Scallop Advisory Panel and Scallop Advisory Panel Meeting.

The advisory panels will make recommendations for measures to be considered in the Draft Supplemental Environmental Impact Statement (DSEIS) being developed for Amendment 11 to the Sea Scallop Fishery Management Plan (FMP). The recommendations will be forwarded to the Scallop Oversight Committee for consideration, and ultimately the full Council is scheduled to approve final alternatives at the June 2006 Council meeting.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard, Executive Director, at (978) 465-0492, at least 5 days prior to the meeting date.

Authority: 16 U.S.C. 1801 et seq.

Dated: April 7, 2006.
Tracey L. Thompson,
Acting Director, Office of Sustainable Fisheries, National Marine Fisheries Service.

[FR Doc. E6-5464 Filed 4-12-06; 8:45 am]

BILLING CODE 3510-22-S